DEPARTMENT OF HOMELAND SECURITY

Federal Emergency Management Agency

[Docket ID FEMA-2020-0016]

Meeting To Implement Pandemic Response Voluntary Agreement Under Section 708 of the Defense Production Act; Correction

AGENCY: Federal Emergency Management Agency, Department of Homeland Security.

ACTION: Announcement of meetings; Correction.

SUMMARY: The Federal Emergency Management Agency (FEMA) published a document in the Federal Register of March 12, 2021, concerning an announcement of meetings to implement the Voluntary Agreement for the Manufacture and Distribution of Critical Healthcare Resources Necessary to Respond to a Pandemic. The document contained an incorrect date for one of the meetings.

FOR FURTHER INFORMATION CONTACT: Robert Glenn, Office of Business, Industry, Infrastructure Integration, via email at OB3I@fema.dhs.gov or via phone at (202) 212-1666.

SUPPLEMENTARY INFORMATION:

Correction

In the Federal Register of March 12, 2021, in FR Doc. 2021-05232 on page 14145, in the second column, correct the last sentence of the “Dates” caption to read: A fourth meeting will take place on Tuesday, March 23, 2021, from 3 to 5 p.m. ET.

Dated: March 15, 2021.
Shabnaum Q. Amjad,
Deputy Associate Chief Counsel, Regulatory Affairs Division, Office of Chief Counsel, Federal Emergency Management Agency.

[FR Doc. 2021-05603 Filed 3-17-21; 8:45 am]

BILLING CODE 9111-19-P